DEPARTMENT OF THE INTERIOR

Bureau of Land Management

[CA-610-01-1610-DL]

Notice of Extension of the Public Comment Period for the Draft Northern and Eastern Colorado Desert Coordinated Management Plan Environmental Impact Statement

AGENCY: California Desert District Office, Riverside, CA., Bureau of Land Management, Department of the Interior.

SUMMARY: Notice is hereby given that the Bureau of Land Management has extended the public comment period an additional 30 days for the Draft Northern and Eastern Colorado Desert Coordinated Management Plan and Environmental Impact. Comments must be submitted or postmarked by July 9, 2001. The ninety-day notice of availability of draft Northern & Eastern Colorado Desert Coordinated Management Plan and Environmental Impact Statement was published in the Federal Register on March 12, 2001.

FOR FURTHER INFORMATION CONTACT: Dick Crowe, California Desert District, 6221 Box Springs Blvd., Riverside, California 92507; phone (909) 697-5216.

Dated: May 29, 2001.
Alan Stein,
Assistant District Manager.

[FR Doc. 01-15135 Filed 6-13-01; 8:45 am]

BILLING CODE 4310-40-P